DEPARTMENT OF TRANSPORTATION

Federal Aviation Administration

14 CFR Part 71

[Docket No. FAA-2016-8944; Airspace Docket No. 16-AGL-21]

Amendment of and Establishment of Air Traffic Service (ATS) Routes; Northcentral United States

AGENCY: Federal Aviation Administration (FAA), DOT.

ACTION: Final rule.

SUMMARY: This action modifies one jet route (J-25) and five VHF Omnidirectional Range (VOR) Federal airways (V-55, V-82, V-161, V-218, and V-413), and establishes three Area Navigation (RNAV) T-routes (T-330, T-354, and T-383) in the northcentral United States. The FAA is taking this action due to the planned decommissioning of the Brainerd, MN (BRD), VHF Omnidirectional Range/Tactical Air Navigation (VORTAC) navigation aid (NAVAID), which provides navigation guidance for portions of the ATS routes amended by this action. The RNAV T-routes established by this action mitigate potential issues to the National Airspace System (NAS) route structure caused by the Jet route and VOR Federal airway amendments. This action enhances the safe and efficient management of aircraft operating within the NAS.

DATES: Effective date 0901 UTC, August 17, 2017.

The Director of the Federal Register approves this incorporation by reference action under Title 1, Code of Federal Regulations, part 51, subject to the annual revision of FAA Order 7400.11 and publication of conforming amendments.

ADDRESSES: FAA Order 7400.11A, Airspace Designations and Reporting Points, and subsequent amendments can be viewed online at http://www.faa.gov/air_traffic/publications/. For further information, you can contact the Airspace Policy Group, Federal Aviation Administration, 800 Independence Avenue SW., Washington, DC 20591; telephone: (202) 267-8783. The Order is also available for inspection at the National Archives and Records Administration (NARA). For information on the availability of FAA Order 7400.11A at NARA, call (202) 741-6030, or go to http://www.archives.gov/federal_register/code_of_federal-regulations/ibr_locations.html.

FAA Order 7400.11, Airspace Designations and Reporting Points, is published yearly and effective on September 15.

FOR FURTHER INFORMATION CONTACT: Colby Abbott, Airspace Policy Group, Office of Airspace Services, Federal Aviation Administration, 800 Independence Avenue SW., Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it modifies the NAS route structure as necessary to preserve the safe and efficient flow of air traffic within the NAS.

History

On January 19, 2017, the FAA published in the Federal Register a notice of proposed rulemaking (NPRM) (82 FR 6353), Docket No. FAA-2016-8944, to amend Jet route J-25; amend VOR Federal airways V-55, V-82, V-161, V-218, and V-413; and establish RNAV T-routes T-330, T-354, and T-383 due to the planned decommissioning of the Brainerd VORTAC. Interested parties were invited to participate in this rulemaking effort by submitting written comments on the proposal. One comment was received.

Discussion of Comments

The commenter stated that the NPRM listed only the regulatory body [aeronautical] changes in the proposal and that an additional study to be conducted was an environmental impact study. The commenter stated the only environmental concerns would be any potential for aircraft noise changes in the affected areas, due to the changing routes, and the associated impact to the local populace and/or wildlife, depending on the degree of the changes. The FAA completed an environmental review of the ATS route amendments and RNAV route establishments in this action and determined that this action qualifies for categorical exclusion from further environmental impact review actions under the National Environmental Policy Act in accordance with FAA Order 1050.1F, Environmental Impacts: Policies and Procedures, paragraph 5-6.5a. This airspace action is not expected to cause any potentially significant environmental impacts and no extraordinary circumstances exist that warrant preparation of an environmental assessment or environmental impact study.

Jet routes are published in paragraph 2004, VOR Federal airways are published in paragraph 6010(a), and United States Area Navigation Routes (low altitude T-routes) are published in paragraph 6011, of FAA Order 7400.11A dated August 3, 2016, and effective September 15, 2016, which is incorporated by reference in 14 CFR 71.1. The Jet routes, VOR Federal airways, and RNAV T-routes listed in this document will be subsequently published in the Order.

Availability and Summary of Documents for Incorporation by Reference

This document amends FAA Order 7400.11A, Airspace Designations and Reporting Points, dated August 3, 2016, and effective September 15, 2016. FAA Order 7400.11A is publicly available as listed in the ADDRESSES section of this document. FAA Order 7400.11A lists Class A, B, C, D, and E airspace areas, air traffic service routes, and reporting points.

The Rule

The FAA is amending Title 14, Code of Federal Regulations (14 CFR) part 71 to modify Jet route J-25 and VOR Federal airways V-55, V-82, V-161, V-218, and V-413, and to establish RNAV T-Routes T-330, T-354, and T-383. These actions are necessary due to the planned decommissioning of the Brainerd VORTAC.

The Jet route and VOR Federal airway changes are outlined below.

J-25: J-25 extends between the intersection of the United States/Mexico border and Brownsville, TX, VORTAC 221° radial and the Winnipeg, MB, Canada, VORTAC. The route segment between the Gopher, MN, VORTAC and the Winnipeg, MB, Canada, VORTAC is removed. The unaffected portions of the route remain as charted.

V-55: V-55 extends between the Dayton, OH, VOR and the Bismarck, ND, VOR. The airway segment between the Siren, WI, VOR and the Park Rapids, MN, VOR is removed. The unaffected portions of the airway remain as charted.

V-82: V-82 extends between the Baudette, MN, VOR and the Dells, WI, VORTAC. The airway segment between the intersection of the Baudette, MN, VOR 194° and Brainerd, MN, VORTAC 331° radials (the BLUOX fix) and the Gopher, MN, VORTAC is removed. Additionally, the BLUOX fix is redefined in its existing location using radials from the Baudette, MN, VOR and the Park Rapids, MN, VOR. The unaffected portions of the airway remain as charted.

V-161: V-161 extends between the Three Rivers, TX, VOR and the Winnipeg, MB, Canada, VORTAC. The airway segment between the Gopher, MN, VORTAC and the Grand Rapids, MN, VOR is removed. Additionally, the airway segment between the Grand Rapids, MN, VOR and the International Falls, MN, VORTAC is re-designated as part of V-218. The unaffected portions of the airway remain as charted.

V-218: V-218 extends between the Grand Rapids, MN, VOR and the Lansing, MI, VORTAC. The V-161 airway segment noted previously between the Grand Rapids, MN, VOR and the International Falls, MN, VORTAC is added to V-218.

V-413: V-413 extends between the Ironwood, MI, VORTAC and Brainerd, MN, VORTAC. The airway segment between the Gopher, MN, VORTAC and the Brainerd, MN, VORTAC is removed. The unaffected portion of the airway remains as charted. Additionally, the airway description for the amended airway is reversed to reflect the airway segments in a south to north order consistent with odd numbered ATS route criteria.

The RNAV T-routes being established are outlined below.

T-330: T-330 is established between the Grand Forks, MN, VOR and the Gopher, MN, VORTAC. This T-route mitigates the loss of the V-55 and V-413 airway segments addressed previously, and provides RNAV T-route capability and connectivity with a more direct routing between the Grand Forks, ND, and Minneapolis, MN, terminal areas.

T-354: T-354 is established between the Park Rapids, MN, VOR and the Siren, WI, VOR. This T-route mitigates the loss of the V-55 airway segment addressed previously.

T-383: T-383 is established between the Gopher, MN, VORTAC and the BLUOX fix that is being redefined in its existing location using radials from the Baudette, MN, VOR and the Park Rapids, MN, VOR. This T-route mitigates the loss of the V-82 and V-413 airway segments addressed previously.

All radials listed in the route descriptions below are stated relative to True north.

Regulatory Notices and Analyses

The FAA has determined that this regulation only involves an established body of technical regulations for which frequent and routine amendments are necessary to keep them operationally current. It, therefore: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this proposed rule, when promulgated, will not have a significant economic impact on a substantial number of small entities under the criteria of the Regulatory Flexibility Act.

Environmental Review

The FAA has determined that this action of modifying one Jet route and five VOR Federal airways, and establishing three RNAV T-routes qualifies for categorical exclusion under the National Environmental Policy Act and its implementing regulations at 40 CFR part 1500, and in accordance with FAA Order 1050.1F, Environmental Impacts: Policies and Procedures, Paragraph 5-6.5a categorically excludes from further environmental impact review rulemaking actions that designate or modify classes of airspace areas, airways, routes, and reporting points (see 14 CFR part 71, Designation of Class A, B, C, D, and E Airspace Areas; Air Traffic Service Routes; and Reporting Points). Therefore, this action is not expected to cause any significant environmental impacts. In accordance with FAA Order 1050.1F, paragraph 5-2 regarding Extraordinary Circumstances, the FAA has reviewed this action for factors and circumstances in which a normally categorically excluded action may have a significant environmental impact requiring further analysis. The FAA determined that no extraordinary circumstances exist that warrant preparation of an environmental assessment or environmental impact study.

List of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order 7400.11A, Airspace Designations and Reporting Points, dated August 3, 2016 and effective September 15, 2016, is amended as follows:

Paragraph 2004 Jet Routes.

* * * * *

J-25 [Amended]

From INT United States/Mexico border and Brownsville, TX, 221° radial; Brownsville; INT Brownsville 358° and Corpus Christi, TX, 178° radials; Corpus Christi; INT Corpus Christi 311° and San Antonio, TX, 174° radials; San Antonio; Centex, TX; Waco, TX; Ranger, TX; Tulsa, OK; Kansas City, MO; Des Moines, IA; Mason City, IA; to Gopher, MN.

* * * * *

Paragraph 6010 Domestic VOR Federal Airways.

* * * * *

V-55 [Amended]

From Dayton, OH; Fort Wayne, IN; Goshen, IN; Gipper, MI; Keeler, MI; Pullman, MI; Muskegon, MI; INT Muskegon 327° and Green Bay, WI, 116° radials; Green Bay; Stevens Point, WI; INT Stevens Point 281° and Eau Claire, WI, 107° radials; Eau Claire; to Siren, WI. From Park Rapids, MN; Grand Forks, ND; INT Grand Forks 239° and Bismarck, ND, 067° radials; to Bismarck.

* * * * *

V-82 [Amended]

From Baudette, MN; to INT Baudette 194° and Park Rapids, MN, 003° radials. From Gopher, MN; Farmington, MN; Rochester, MN; Nodine, MN; to Dells, WI.

* * * * *

V-161 [Amended]

From Three Rivers, TX; Center Point, TX; Llano, TX; INT Llano 026° and Millsap, TX, 193° radials; Millsap; Bowie, TX; Ardmore, OK; Okmulgee, OK; Tulsa, OK; Oswego, KS; Butler, MO; Napoleon, MO; Lamoni, IA; Des Moines, IA; Mason City, IA; Rochester, MN; Farmington, MN; to Gopher, MN. From International Falls, MN; to Winnipeg, MB, Canada, excluding the airspace within Canada.

* * * * *

V-218 [Amended]

From International Falls, MN; Grand Rapids, MN; Gopher, MN; Waukon, IA; to Rockford, IL. From Keeler, MI; to Lansing, MI.

* * * * *

V-413 [Amended]

From Gopher, MN; INT Gopher 109° and Eau Claire, WI, 269° radials; Eau Claire; to Ironwood, MI.

* * * * *

Paragraph 6011 United States Area Navigation Routes.

* * * * *

T-330 Grand Forks, ND (GFK) to Gopher, MN (GEP) [New]
Grand Forks, ND (GFK) | VOR/DME | (Lat. 47°57′17.39″ N., long. 097°11′07.33″ W.)
BYZIN, ND | WP | (Lat. 47°29′03.97″ N., long. 096°13′28.09″ W.)
TAMMR, MN | WP | (Lat. 46°53′33.48″ N., long. 095°42′56.42″ W.)
WATAM, MN | FIX | (Lat. 46°25′52.91″ N., long. 095°09′06.92″ W.)
MAFLN, MN | WP | (Lat. 46°02′22.73″ N., long. 094°37′21.86″ W.)
DAYLE, MN | FIX | (Lat. 45°37′24.75″ N., long. 093°55′34.20″ W.)
Gopher, MN (GEP) | VORTAC | (Lat. 45°08′44.47″ N., long. 093°22′23.45″ W.)
* * * * * *
T-354 Park Rapids, MN (PKD) to Siren, WI (RZN) [New]
Park Rapids, MN (PKD) | VOR/DME | (Lat. 46°53′53.34″ N., long. 095°04′15.21″ W.)
BRNRD, MN | WP | (Lat. 46°20′53.81″ N., long. 094°01′33.54″ W.)
Siren, WI (RZN) | VOR/DME | (Lat. 45°49′13.60″ N., long. 092°22′28.26″ W.)
* * * * * *
T-383 Gopher, MN (GEP) to BLUOX, MN [New]
Gopher, MN (GEP) | VORTAC | (Lat. 45°08′44.47″ N., long. 093°22′23.45″ W.)
BRNRD, MN | WP | (Lat. 46°20′53.81″ N., long. 094°01′33.54″ W.)
BLUOX, MN | FIX | (Lat. 47°34′33.13″ N., long. 095°01′29.11″ W.)
* * * * * *

Issued in Washington, DC, on June 13, 2017.
Rodger A. Dean Jr.,
Manager, Airspace Policy Group.

[FR Doc. 2017-12713 Filed 6-19-17; 8:45 am]

BILLING CODE 4910-13-P